POSTAL RATE COMMISSION

Plant Tours

AGENCY: Postal Rate Commission.

ACTION: Notice regarding plant tours.

SUMMARY: The anticipated mid-September tour of Chicago-area mailer and United States Postal Service (USPS) facilities by a Postal Rate Ciommissioner and several staff members, notices at 67 FR 57463, has been indefinitely postponed. A tour of the USPS facility in Merrifield, Virginia, is scheduled for Wednesday, September 18, 2002.

FOR FURTHER INFORMATION CONTACT: Stephen L. Sharfman, General Counsel, 202-789-6818.

DATES: September 11-13, 2002: Chicago-area plant tours—postponed. September 18, 2002: USPS facility in Merrifield, VA.

Steven W. Williams,
Secretary

[FR Doc. 02-23887 Filed 9-19-02; 8:45 am]

BILLING CODE 7710-FW-M